DEPARTMENT OF ENERGY

10 CFR Parts 429 and 430

[Docket No. EERE-2012-BT-TP-0016]

RIN 1904-AC76

Energy Conservation Program for Consumer Products: Test Procedures for Refrigerators, Refrigerator-Freezers, and Freezers

Correction

In proposed rule document 2013-16281, appearing on pages 41610-41675 in the issue of Wednesday, July 10, 2013, make the following correction:

On page 41610, in the second column, in the third paragraph, in the first and second lines, the electronic-mail address in item number “2.” that reads “#Res-Refrig-Freezer-2012-BT-TP-0016@ee.doe.gov.” should read “Res-Refrig-Freezer-2012-BT-TP-0016@ee.doe.gov.”

[FR Doc. C1-2013-16281 Filed 7-15-13; 8:45 am]

BILLING CODE 1505-01-D